DEPARTMENT OF ENERGY

Federal Energy Regulatory Commission

Combined Notice of Filings

Take notice that the Commission has received the following Natural Gas Pipeline Rate and Refund Report filings:

Filings Instituting Proceedings

Docket Numbers: RP13-294-000.

Applicants: Gulf South Pipeline Company, LP.

Description: ENS Activity Report for 2013.

Filed Date: 2/7/14.

Accession Number: 20140207-5024.

Comments Due: 5 p.m. ET 5/5/14.

Docket Numbers: RP14-759-000.

Applicants: Cameron Interstate Pipeline, LLC.

Description: Annual Report of Operational Imbalances and Cash-out Activity of Cameron Interstate Pipeline, LLC.

Filed Date: 4/18/14.

Accession Number: 20140418-5102.

Comments Due: 5 p.m. ET 4/30/14.

Docket Numbers: RP14-761-000.

Applicants: Cameron Interstate Pipeline, LLC.

Description: Annual Report of Penalty Revenues for Cameron Interstate Pipeline, LLC.

Filed Date: 4/18/14.

Accession Number: 20140418-5109.

Comments Due: 5 p.m. ET 4/30/14.

Docket Numbers: RP14-774-000.

Applicants: Portland Natural Gas Transmission System.

Description: Maps 2014 to be effective 6/1/2014.

Filed Date: 4/28/14.

Accession Number: 20140428-5063.

Comments Due: 5 p.m. ET 5/12/14.

Docket Numbers: RP14-775-000.

Applicants: Alliance Pipeline L.P.

Description: May 1-14 2014 Auction to be effective 5/1/2014.

Filed Date: 4/28/14.

Accession Number: 20140428-5080.

Comments Due: 5 p.m. ET 5/12/14.

Docket Numbers: RP14-776-000.

Applicants: Algonquin Gas Transmission, LLC.

Description: ConEd Ramapo Release May 1, 2014 to be effective 5/1/2014.

Filed Date: 4/28/14.

Accession Number: 20140428-5223.

Comments Due: 5 p.m. ET 5/12/14.

Docket Numbers: RP14-777-000.

Applicants: Algonquin Gas Transmission, LLC.

Description: Brooklyn Union Ramapo Release May 1, 2014 to be effective 5/1/2014.

Filed Date: 4/28/14.

Accession Number: 20140428-5233.

Comments Due: 5 p.m. ET 5/12/14.

Docket Numbers: RP14-778-000.

Applicants: Algonquin Gas Transmission, LLC.

Description: Keyspan Ramapo Release May 1, 2014 to be effective 5/1/2014.

Filed Date: 4/28/14.

Accession Number: 20140428-5237.

Comments Due: 5 p.m. ET 5/12/14.

Docket Numbers: RP14-779-000.

Applicants: Texas Eastern Transmission, LP.

Description: EQT Negotiated Rate Release 5-1-2014 to be effective 5/1/2014.

Filed Date: 4/28/14.

Accession Number: 20140428-5247.

Comments Due: 5 p.m. ET 5/12/14.

Docket Numbers: RP14-780-000.

Applicants: Texas Eastern Transmission, LP.

Description: 2014 Maps to be effective 5/29/2014.

Filed Date: 4/28/14.

Accession Number: 20140428-5270.

Comments Due: 5 p.m. ET 5/12/14.

Docket Numbers: RP14-781-000.

Applicants: Algonquin Gas Transmission, LLC.

Description: 2014 Map to be effective 5/29/2014.

Filed Date: 4/28/14.

Accession Number: 20140428-5271.

Comments Due: 5 p.m. ET 5/12/14.

Docket Numbers: RP14-90-000.

Applicants: Texas Gas Transmission, LLC.

Description: Motion to Place Tariff Records into Effect May 1, 2014 in RP14-90 to be effective 5/1/2014.

Filed Date: 4/28/14.

Accession Number: 20140428-5096.

Comments Due: 5 p.m. ET 5/12/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-573-001.

Applicants: KPC Pipeline, LLC.

Description: KPC Fuel Reimbursement Adjustment—Compliance Filing to be effective 4/1/2014.

Filed Date: 4/28/14.

Accession Number: 20140428-5194.

Comments Due: 5 p.m. ET 5/12/14.

Docket Numbers: RP14-768-001.

Applicants: Natural Gas Pipeline Company of America.

Description: Amended Macquarie Energy Negotiated Rate to be effective 5/1/2014.

Filed Date: 4/28/14.

Accession Number: 20140428-5239.

Comments Due: 5 p.m. ET 5/12/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2014.
Kimberly D. Bose,
Secretary.

[FR Doc. 2014-10702 Filed 5-8-14; 8:45 am]

BILLING CODE 6717-01-P